DEPARTMENT OF COMMERCE

Foreign-Trade Zones Board

[Docket 34-2003]

Foreign-Trade Zone 39—Dallas/Fort Worth, TX; Application for Subzone Maxtor Corporation (Data Storage Products) Coppell, TX

An application has been submitted to the Foreign-Trade Zones Board (the Board) by the Dallas/Fort Worth International Airport Board, grantee of FTZ 39, requesting special-purpose subzone status for the assembly and warehousing facilities of Maxtor Corporation (Maxtor), located in Coppell, Texas. The application was submitted pursuant to the provisions of the Foreign-Trade Zones Act, as amended (19 U.S.C. 81a-81u), and the regulations of the Board (15 CFR part 400). It was formally filed on July 2, 2003.

The Maxtor facility (18 acres, 245 employees) is located at 611 South Royal Lane, Coppell, Texas. The facility will be used for the assembly and distribution of internal and external hard disk drive kits, retail kits and accessory kits (HTS 8471.70 and 8471.80, duty-free). Components and materials sourced from abroad (representing 97% of all parts used in the assembly process) include: external and internal drives, electrical power supplies, electrical power cables, hard disk drive controller cards, data cables, printed circuit boards, cabling, plastic covers, UV resin, brackets, tape, HDD screws, software, acrylic plates and packaging (HTS 3919.10, 3926.90, 4819.40, 4821.10, 4901.99, 7318.15, 7326.90, 8471.70, 8471.80, 8473.30, 8504.40, 8524.31, 8524.91, 8544.41, 8544.51, duty rate ranges from duty-free to 8.6%).

FTZ procedures would exempt Maxtor from Customs duty payments on the foreign components used in export production. Some 6 percent of the plant's shipments are exported. On its domestic sales, Maxtor would be able to choose the duty rates during Customs entry procedures that apply to the assembled data storage kits (duty-free) for the foreign components noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW, Washington, DC 20005; or

2. Submissions Via the U.S. Postal Service: Foreign-Trade-Zones Board, U.S. Department of Commerce, FCB—Suite 4100W, 1401 Constitution Ave. NW, Washington, DC 20230. The closing period for their receipt is September 16, 2003. Rebuttal comments in response to material submitted during the foregoing period may be submitted during the subsequent 15-day period to October 1, 2003.

A copy of the application and accompanying exhibits will be available for public inspection at the Office of the Foreign-Trade Zones Board's Executive Secretary at the first address listed above, and at the U.S. Department of Commerce Export Assistance Center, 711 Houston Street, Fort Worth, Texas 76102.

Dated: July 9, 2003.
Dennis Puccinelli,
Executive Secretary.

[FR Doc. 03-18322 Filed 7-17-03; 8:45 am]

BILLING CODE 3510-DS-P